SECURITIES AND EXCHANGE COMMISSION

[File No. 500-1]

In the Matter of Eden Energy Corp. and Fifth Season International, Inc., Order of Suspension of Trading

April 30, 2015.

It appears to the Securities and Exchange Commission that there is a lack of current and accurate information concerning the securities of Eden Energy Corp. because it has not filed any periodic reports since the period ended June 30, 2012.

It appears to the Securities and Exchange Commission that there is a lack of current and accurate information concerning the securities of Fifth Season International, Inc. because it has not filed any periodic reports since the period ended September 30, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 30, 2015, through 11:59 p.m. EDT on May 13, 2015.

By the Commission.
Jill M. Peterson,
Assistant Secretary.

[FR Doc. 2015-10437 Filed 4-30-15; 11:15 am]

BILLING CODE 8011-01-P